DEPARTMENT OF TRANSPORTATION

Federal Motor Carrier Safety Administration

[Docket No. FMCSA-2011-0092]

Qualification of Drivers; Exemption Applications; Vision

AGENCY: Federal Motor Carrier Safety Administration (FMCSA), DOT.

ACTION: Notice of applications for exemptions; request for comments.

SUMMARY: FMCSA announces receipt of applications from 19 individuals for exemption from the vision requirement in the Federal Motor Carrier Safety Regulations. If granted, the exemptions would enable these individuals to qualify as drivers of commercial motor vehicles (CMVs) in interstate commerce without meeting the Federal vision standard.

DATES: Comments must be received on or before June 6, 2011.

ADDRESSES: You may submit comments bearing the Federal Docket Management System (FDMS) Docket No. FMCSA-2011-0092 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to, or greater than, the level that would be achieved absent such exemption.” FMCSA can renew exemptions at the end of each 2-year period. The 19 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Keith E. Allstot

Mr. Allstot, age 51, has loss of vision in his left eye due to a traumatic injury that occurred in 2002. The best corrected visual acuity in his right eye is 20/20 and in his left eye, 20/400. Following an examination in 2010, his optometrist noted, “Using both eyes, Keith's vision is sufficient for commercial driving licensing and tasks.” Mr. Allstot reported that he has driven straight trucks for 15 years, accumulating 999,990 miles and tractor-trailer combinations for 31 years, accumulating 3 million miles. He holds a Class A Commercial Driver's License (CDL) from Washington. His driving record for the last 3 years shows no crashes and no convictions for moving violations in a CMV.

Christopher L. Bagby

Mr. Bagby, 45, has a misplaced pupil and a mild cataract in his right eye due to an injury sustained as a child. The visual acuity in his right eye is 20/1200 and in his left eye, 20/20. Following an examination in 2010, his optometrist noted, “In my medical opinion, Mr. Bagby has sufficient vision to perform the driving tasks required to operate a commercial vehicle.” Mr. Bagby reported that he has driven straight trucks for 14 years, accumulating 350,000 miles and tractor-trailer combinations for 6 years, accumulating 150,000 miles. He holds a Class A CDL from Virginia. His driving record for the last 3 years shows no crashes and no convictions for moving violations in a CMV.

Joseph L. Butler

Mr. Butler, 47, has a prosthetic left eye due to a chorodial melanoma that occurred in 2003. The best corrected visual acuity in his right eye is 20/20. Following an examination in 2011, his optometrist noted, “It is my medical opinion that Mr. Butler has sufficient vision to perform the driving tasks necessary to operate the commercial vehicles required to maintain his business.” Mr. Butler reported that he has driven straight trucks for 30 years, accumulating 600,000 miles and tractor-trailer combinations for 30 years, accumulating 150,000 miles. He holds a Class C operator's license from Indiana. His driving record for the last 3 years shows no crashes and no convictions for moving violations in a CMV.

Shawn M. Carroll

Mr. Carroll, 44, has had amblyopia in his left eye since birth. The best corrected visual acuity in his right eye is 20/15 and in his left eye, 20/200. Following an examination in 2010, his optometrist noted, “I have found and determined Shawn Carroll to have sufficient vision to perform the driving tasks required to operate a commercial vehicle.” Mr. Carroll reported that he has driven straight trucks for 25 years, accumulating 1.3 million miles and tractor-trailer combinations for 4 years, accumulating 100,000 miles. He holds a Class C operator's license from Georgia. His driving record for the last 3 years shows no crashes and no convictions for moving violations in a CMV.

Erik R. Davis

Mr. Davis, 30, has had amblyopia in his right eye since childhood. The best corrected visual acuity in his right eye is 20/80 and in his left eye, 20/20. Following an examination in 2011, his optometrist noted, “In my medical opinion I feel that Mr. Davis has sufficient vision to perform the driving tasks required to operate a commercial vehicle.” Mr. Davis reported that he has driven straight trucks for 8½ years, accumulating 1.3 million miles. He holds a Class A CDL from Georgia. His driving record for the last 3 years shows no crashes and no convictions for moving violations in a CMV.

Walter C. Dean, Sr.

Mr. Dean, 67, has complete loss of vision in his right eye due to a traumatic injury sustained as a child. The best corrected visual acuity in his right eye is no light perception and in his left eye, 20/20. Following an examination in 2011, his ophthalmologist noted, “I feel that he has sufficient vision to perform the driving tasks that are required to operate a commercial vehicle.” Mr. Dean reported that he has driven straight trucks for 40 years, accumulating 3.1 million miles. He holds a Class D operator's license from Alabama. His driving record for the last 3 years shows no crashes and no convictions for moving violations in a CMV.

John C. DiMassa

Mr. DiMassa, 53, has had amblyopia in his right eye since birth. The best corrected visual acuity in his right eye is 20/100 and in his left eye, 20/20. Following an examination in 2011, his optometrist noted, “In my professional opinion, John has sufficient vision to perform the driving tasks required to operate a commercial vehicle.” Mr. DiMassa reported that he has driven straight trucks for 30 years, accumulating 150,000 miles and tractor-trailer combinations for 30 years, accumulating 150,000 miles. He holds a Class A CDL from Washington. His driving record for the last 3 years shows no crashes and no convictions for moving violations in a CMV.

Jerry O. Ekes

Mr. Ekes, 38, has had a refractive amblyopia in his left eye since birth. The best corrected visual acuity in his right eye is 20/20 and in his left eye, 20/200. Following an examination in 2011, his optometrist noted, “It is my professional opinion that Mr. Ekes has sufficient vision to perform the driving tasks required to operate a commercial vehicle”. Mr. Ekes reported that he has driven straight trucks for 15 years, accumulating 180,000 miles. He holds a Class D operator's license from Mississipi. His driving record for the last 3 years shows no crashes and no convictions for moving violations in a CMV.

Robert A. Goerl, Jr.

Mr. Goerl, 33, has traumatic cataract and macular hole in his left eye since 2000. The best corrected visual acuity in his right eye is 20/20 and in his left eye, 20/60. Following an examination in 2011, his optometrist noted, “It is my opinion that Mr. Goerl does have sufficient visual function to perform the driving tasks required to operate a commercial vehicle”. Mr. Goerl reported that he has driven straight trucks for 12 years, accumulating 60,000 miles. He holds a Class C operator's license from Pennslyvania. His driving record for the last 3 years shows no crashes and no convictions for moving violations in a CMV.

Eric M. Grayson

Mr. Grayson, 38, has had amblyopia and exophoria in his left eye since birth. The visual acuity in his right eye is 20/15 and in his left eye, 20/400. Following an examination in 2011, his optometrist noted, “His vision and side vision is sufficient enough for him to drive commercially.” Mr. Grayson reported that he has driven straight trucks for 9 years, accumulating 112,500 miles and tractor-trailer combinations for 10 years, accumulating 900,000 miles. He holds a Class A CDL from Kentucky. His driving record for the last 3 years shows no crashes and no convictions for moving violations in a CMV.

Alan D. Harberts

Mr. Harberts, 56, has had amblyopia in his right eye since birth. The best corrected visual acuity in his right eye is 20/400 and in his left eye, 20/20. Following an examination in 2011, his optometrist noted, “In my opinion, he has excellent visual skills, and is competent to perform driving tasks associated with commercial vehicle driving.” Mr. Harberts reported that he has driven straight trucks for 37 years, accumulating 462,500 miles and tractor-trailer combinations for 25 years, accumulating 187,500 miles. He holds a Class A CDL from Iowa. His driving record for the last 3 years shows no crashes and no convictions for moving violations in a CMV.

Smith Harry, Jr.

Mr. Harry, 41, has a prosthetic right eye due to a traumatic injury sustained during childhood. The best corrected visual acuity in his left eye is 20/20. Following an examination in 2011, his optometrist noted, “In my professional opinion, Mr. Smith has sufficient vision and central and peripheral visual fields OS to perform the driving tasks required to operate a commercial vehicle.” Mr. Harry reported that he has driven straight trucks for 6 years, accumulating 480,000 miles and tractor-trailer combinations for 6 years, accumulating 480,000 miles. He holds a Class A CDL from North Carolina. His driving record for the last 3 years shows no crashes but one conviction for speeding in a CMV. He exceeded the speed limit by 13 Miles Per Hour (MPH).

Vincent A.R. Neal

Mr. Neal, 50, has optic atrophy in his left eye due to trauma that occurred 15 to 20 years ago. The best corrected visual acuity in his right eye is 20/20 and in his left eye, 20/100. Following an examination in 2010, his ophthalmologist noted, “In addition, he should be able to perform his driving task without a problem.” Mr. Neal reported that he has driven tractor-trailer combinations for 3 years, accumulating 270,000 miles. He holds a Class A CDL from Virginia. His driving record for the last 3 years shows no crashes and no convictions for moving violations in a CMV.

Michael P. Passmore

Mr. Passmore, 62, has had amblyopia in his left eye since childhood. The best corrected visual acuity in his right eye is 20/20 and in his left eye, 20/400. Following an examination in 2010, his optometrist noted, “As the examining doctor, it is my professional opinion that Mr. Passmore has sufficient vision to perform the driving tasks required to operate a commercial vehicle.” Mr. Passmore reported that he has driven straight trucks for 3½ years, accumulating 175,000 miles and tractor-trailer combinations for 3½ years, accumulating 35,000 miles. He holds a Class A CDL from Florida. His driving record for the last 3 years shows no crashes and no convictions for moving violations in a CMV.

Timothy L. Porsley

Mr. Porsley, 54, has complete loss of vision in his left eye due to a traumatic injury sustained in 1971. The best corrected visual acuity in his right eye is 20/20. Following an examination in 2010, his optometrist noted, “In my opinion, nothing has changed visually over the past thirty plus years. If he was visually safe to drive a commercial vehicle in the past, he still is today.” Mr. Porsley reported that he has driven straight trucks for 30 years, accumulating 540,000 miles. He holds a Class D operator's license from New York. His driving record for the last 3 years shows no crashes and no convictions for moving violations in a CMV.

James B. Prunty

Mr. Prunty, 40, has had refractive amblyopia in his right eye since birth. The best corrected visual acuity in his right eye is 20/200 and in his left eye, 20/20. Following an examination in 2011, his optometrist noted, “In my medical opinion, Mr. Prunty's visual deficiency in the right eye does not make him unsafe for commercial vehicle operation. I do believe that he is able to operate a commercial vehicle safely without glasses, for his uncorrected vision is 20/25 when using both eyes. Mr. Prunty reported that he has driven straight trucks for 4 years, accumulating 96,000 miles. He holds a Class D operator's license from West Virginia. His driving record for the last 3 years shows no crashes and no convictions for moving violations in a CMV.

Wendell S. Sehen

Mr. Sehen, 46, has a prosthetic right eye due to trauma that occurred at the age of 4. The best corrected visual acuity in his left eye is 20/20. Following an examination in 2011, his optometrist noted, “In my medical opinion, Wendell Sehen has sufficient vision to perform the driving tasks to operate a commercial vehicle.” Mr. Sehen reported that he has driven tractor-trailer combinations for 16 years, accumulating 560,000 miles. He holds a Class A CDL from Ohio. His driving record for the last 3 years shows no crashes and no convictions for moving violations in a CMV.

Gary E. Valentine

Mr. Valentine, 60, has a prosthetic left eye due to an eye injury that occurred in 2007. The visual acuity in his right eye is 20/20 and in his left eye, no light perception. Following an examination in 2011, his optometrist noted, “From these results, I believe Mr. Valentine does have sufficient visual acuity, visual field, and color discrimination to safely operate a commercial vehicle.” Mr. Valentine reported that he has driven straight trucks for 40 years, accumulating 3.7 million miles and tractor-trailer combinations for 34 years, accumulating 3.5 million miles. He holds a Class A CDL from Ohio. His driving record for the last 3 years shows no crashes and no convictions for moving violations in a CMV.

Charles Van Dyke

Mr. Van Dyke, 64, has had amblyopia in his right eye since childhood. The best corrected visual acuity in his right eye is 20/100 and in his left eye, 20/20. Following an examination in 2011, his optometrist noted, “It is my medical opinion that Charles has sufficient vision to perform the driving tasks required to operate a commercial vehicle.” Mr. Van Dyke reported that he has driven straight trucks for 42 years, accumulating 2 million miles and tractor-trailer combinations for 2 years, accumulating 160,000 miles. He holds a Class A CDL from Wisconsin. His driving record for the last 3 years shows no crashes but one conviction for speeding in a CMV. He exceeded the speed limit by 13 mph.

Request for Comments

In accordance with 49 U.S.C. 31136(e) and 31315, FMCSA requests public comment from all interested persons on the exemption petitions described in this notice. The Agency will consider all comments received before the close of business June 6, 2011. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: April 22, 2011.
Larry W. Minor,
Associate Administrator for Policy.

[FR Doc. 2011-11014 Filed 5-4-11; 8:45 am]

BILLING CODE 4910-EX-P